DEPARTMENT OF TRANSPORTATION

National Highway Traffic Safety Administration

49 CFR Part 594

[Docket No. NHTSA-2014-0052; Notice 2]

RIN 2127-AL51

Schedule of Fees

AGENCY: National Highway Traffic Safety Administration (NHTSA), DOT.

ACTION: Notice of proposed rulemaking; correction.

SUMMARY: NHTSA is correcting a notice of proposed rulemaking that appeared in the Federal Register of July 31, 2014 (79 FR 44363). The document contained an incorrect Regulatory Identification Number (RIN). The corrected RIN is 2127-AL51.

FOR FURTHER INFORMATION CONTACT: Clint Lindsay, Office of Vehicle Safety Compliance, NHTSA, (202) 366-5288.

SUPPLEMENTARY INFORMATION: The heading of the notice of proposed rulemaking published in the Federal Register of July 31, 2014, in FR Doc. 2014-17852, on page 44363, contained an incorrect RIN, “2127-AL09.” The correct RIN is “2127-AL51.” To advise the public of this error, we are publishing this notice of correction.

Correction of Publication

Accordingly, the notice of proposed rulemaking Schedule of Fees published in the Federal Register of July 31, 2014, in FR Doc. 2014-17852, is corrected as follows: On page 44363, in the heading, “RIN 2127-AL09” is corrected to read “RIN 2127-AL51.”

Dated: September 4, 2014.
Daniel C. Smith,
Senior Associate Administrator, for Vehicle Safety.

[FR Doc. 2014-21638 Filed 9-10-14; 8:45 am]

BILLING CODE 4910-59-P